DEPARTMENT OF AGRICULTURE

Submission for OMB Review; Comment Request

The Department of Agriculture has submitted the following information collection requirement(s) to OMB for review and clearance under the Paperwork Reduction Act of 1995, Public Law 104-13. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by September 21, 2022 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Natural Resource Conservation Service

Title: Partnership for Climate-Smart Commodities.

OMB Control Number: 0578-0031.

Summary of Collection: USDA has directed the Farm Production and Conservation (FPAC) mission area and NRCS to implement Partnerships for Climate-Smart Commodities to support the production and marketing of climate-smart commodities through a set of pilot projects that provide voluntary incentives through partners to producers and landowners, including early adopters, to implement climate-smart production practices, activities, and systems on working lands; measure and quantify, monitor and verify the carbon and greenhouse gas (GHG) benefits associated with those practices; and develop markets and promote the resulting climate-smart commodities. Partnerships for Climate-Smart Commodities is using the funds and authorities of the Commodity Credit Corporation (CCC) (15 U.S.C. 714-714f).

Need and Use of the Information: NRCS uses the information to determine whether recipients meet the eligibility requirements to be a recipient of grant funds and to report on the progress related to the funding opportunity requirements. Lack of adequate information to make the determination could result in the improper administration and appropriation of Federal grant funds.

Description of Respondents: Businesses or other for profits; Farms; Not-for-profit institutions.

Number of Respondents: 500.

Frequency of Responses: Reporting: Semi-annually.

Total Burden Hours: 14,370.

Ruth Brown,
Departmental Information Collection Clearance Officer.

[FR Doc. 2022-18006 Filed 8-19-22; 8:45 am]

BILLING CODE 3410-16-P